ENVIRONMENTAL PROTECTION AGENCY

[FRL-7049-2]

National Tribal Conference on Environmental Management

AGENCY: Environmental Protection Agency.

ACTION: Notice to Solicit Proposals from Federally-recognized Indian Tribes and Intertribal Consortia.

SUMMARY: The Environmental Protection Agency (EPA) is requesting proposals from federally-recognized Indian Tribes or Intertribal consortia to host the 6th National Tribal Conference on Environmental Management. EPA will be the official sponsor. The Tribal Conference will provide an opportunity for tribal leaders, tribal environmental managers, tribal organizations, Federal agencies, and other interested entities/persons to share information about tribal environmental programs and discuss issues of vital interest to Indian country. EPA is seeking to broaden the scope of the conference to be even more inclusive of the multi-media environmental issues being addressed by Tribes to establish stronger tribal networks and relationships across environmental efforts in Indian country, identify shared lessons learned, and familiarize Tribes with the full extent of tribal and EPA program environmental activities. EPA will award a cooperative agreement to the selected host Tribe to co-sponsor the conference, including personnel, planning, facilities and management expenses.

DATES: Submit proposals on or before October 12, 2001.

ADDRESSES: Mail proposals via U.S. Postal Service (including express and priority mail) to: U.S. Environmental Protection Agency, Attn: Clara Mickles, American Indian Environmental Office, Mailcode: 4101, 1200 Pennsylvania Avenue, NW. Washington, DC 20460. Mail proposals via commercial overnight delivery service (e.g., FedEx, DHL, UPS, etc.) to: U.S. Environmental Protection Agency, Attn: Clara Mickles, American Indian Environmental Office, 9th Floor, Room 913 East Tower, 401 M. Street, S.W., Washington, DC 20460.

FOR FURTHER INFORMATION CONTACT: Felicia Wright at (202) 260-4410, Caren Rothstein-Robinson at (202) 260-0065, Claudia Walters at (202) 564-6762 or Clara Mickles at (202) 260-7519, for pre-application assistance or questions about the conference.

SUPPLEMENTARY INFORMATION:

I. Background

Starting in 1992, the U.S. EPA has co-sponsored five bi-annual NTCEM conferences to provide an opportunity for tribal leaders, tribal environmental program managers, tribal organizations, Federal agencies, and other interested entities to share information about tribal environmental programs and discuss issues of vital interest to Indian Country. Topics at past conferences have helped to build tribal capacity in the following areas:

• Managing environmental programs (including integrated waste programs);

• Grant assistance to Tribes;

• Addressing concerns about human health risks and subsistence;

• Contracting, research, and business development opportunities;

• Technology (GIS) and natural resource management; and

• Air, water, and waste management issues.

The conference has traditionally been held in late Spring. Here is a list of previous conference locations and dates:

(1) Cherokee Nation, NC (May 19-20, 1992)

(2) Cherokee Nation, NC (May 23-26, 1994)

(3) Confederated Salish and Kootenai Tribes of the Flathead Nation, MT (May 1996)

(4) Prairie Island Indian Community, MN (May 19-21, 1998)

(5) Confederated Tribes of Siletz Indians, OR (June, 2000)

The most recent conference, hosted by the Confederated Tribes of Siletz Indians in Lincoln City, Oregon, was very successful in content as well as in attendance. Over 600 people attended this conference. Past conferences have drawn 500-700 participants representing more than 200 Tribes, Native Alaskans, Inter-tribal Consortia, and organizations. The conference agenda included all aspects of tribal environmental issues. For copies of past conference agendas, please see FOR FURTHER INFORMATION CONTACT section of this notice, or send email to wright.felicia@epa.gov. Any significant clarifications to this request for proposals will be posted on EPA's American Indian Environmental Office's web page at http://www.epa.gov/indian/.

II. 2002 Host Responsibilities

The tribal host will be the primary lead for this conference, including developing the conference agenda, handling conference logistics (such as registration, transportation and administering/making decisions regarding travel scholarships for tribal participants travel), developing conference materials, and in making sure that priority environmental issues of interest to tribes are represented. The host tribe will also take the lead role in developing a conference theme based on uniting tribal environmental efforts to protect human health and the environment in Indian country and tribal homelands.

III. Coordination With Other Federal Agencies and Tribal Organizations

EPA is coordinating with other federal agencies (including the Department of Interior, the Department of Health and Human Services, and the Department of Defense) and our key tribal partners (including the Tribal Operations Committee, Tribal Pesticide Program Council, Tribal Science Council, Tribal Association on Solid Waste and Emergency Response, and many other broader-based intertribal organizations and consortia) to strengthen the multi-media character of this conference. These groups will be invited to hold their own independently-sponsored meetings according to their own procedures around the other on-going conference events. For example, the National Tribal Environmental Council (NTEC) has advised EPA that they are planning to coordinate around and co-locate their annual meeting the same week as this conference. Once the conference host is selected, we encourage other organizations to contact the host to coordinate similar joint efforts.

IV. Evaluation Criteria

EPA is requesting proposals from Federally-recognized Indian Tribes or intertribal consortia to host the National Tribal Conference On Environmental Management through a cooperative agreement with EPA (the applicable Catalog of Federal Domestic Assistance number is 66.604). To be eligible to receive a cooperative agreement under the authorities listed in today's Notice, an intertribal consortium must meet the definition of eligibility in the Environmental Program Grants for Tribes Final Rule, at 40 CFR 35.504 (66 FR 3782, January 16, 2001), and are a non-profit organization within the meaning of OMB Circular A-122. The funding amount for the cooperative agreement is subject to the availability of funds in EPA. Prior cooperative agreement awards for co-hosting the tribal conference have been in the amount of $350,000. EPA will negotiate the final amount of the reward with the selected tribal host.

Tribes or intertribal consortia that wish to submit proposals must first meet two mandatory factors described below under the Evaluation Criteria. If your Tribe or intertribal consortium meets these mandatory factors, EPA will score your proposal based on how well you meet the evaluation criteria. Please make sure you address the mandatory factors first and then provide detailed information on all the listed criteria in your proposal. Submissions which do not address a particular criterion will receive a zero score for that criterion. EPA will evaluate all submissions according to the listed criteria.

All proposals must come from a tribal government or intertribal consortium. We strongly encourage direct involvement by staff from your environmental program/department, facility managers, and members of the local business community/chamber of commerce. EPA will award a grant to the selected tribal host to cover personnel, planning, and management expenses. EPA reserves the right to reject all proposals and make alternative arrangements for the conference. Clearly mark any information you consider confidential. Please submit a description of your facilities and a summary of your capabilities for each of the criteria below.

A. Mandatory Factors

• Have a conference center or other suitable meeting facilities capable of holding at least four concurrent sessions and a plenary session that will accommodate 700 people.

• Demonstrate the ability to effectively manage EPA financial assistance (i.e., an adequate financial management system with effective accounting procedures that maintain fiscal control).

B. Evaluation Criteria

• Conference Facilities: Proposed conference center (or other suitable meeting facility) is capable of holding at least four concurrent sessions and a plenary session for 700 people; facilities should have adequate amenities to comfortably accommodate large groups of people. Lodging for 700 people should be available within a reasonable travel time, preferably within 15 minutes of conference facilities. Tribes that do not have facilities located on their lands can outline a plan to utilize nearby facilities that meet the logistical needs described in the criteria. (Maximum of 25 points)

• Bonus of up to 10 additional points for conference facilities/amenities that are tribally-owned or located on tribal land.

• Conference management: Demonstrate capability to manage all aspects of a major conference, including conference planning, logistics, booking, registration, travel, on-site events, contractual support, closeout activities, and an ability to effectively manage EPA financial assistance (i.e., an adequate financial management system with effective accounting procedures that maintain fiscal control). EPA will award a grant to the selected host Tribe to cover personnel, planning, and management expenses. (Maximum of 25 points)

• Conference Transportation: Demonstrate that: (1) Airline transportation is economically feasible for most conference participants; (2) the conference facilities are located within 90 minutes of a major airport; and (3) ground transportation can be provided for attendees to and from the airport and around the meeting sites (e.g., between meeting facility and offsite locations such as hotels, special event locations, etc.). (Maximum of 18 points)

• Conference Materials: Capability to produce and distribute conference materials, such as a conference logo, registration materials, signs/banners, an agenda booklet, and handouts. (Maximum of 15 points)

• Vendor Area: Use of an area in close proximity to the meeting area(s) capable of accommodating 25 or more vendors, providing exhibit booth space of 8′ X 8′ or 10′ X 10′ per vendor and access to electrical and telephone service. (Maximum of 12 points)

• Recycling: Commitment to use, to the maximum extent possible, products with recycled content and to collect recyclables at the conference. (Maximum of 5 points)

Total: 100 points with potential for up to 110 total points, including bonus.

In addition to soliciting proposals for the 2002 conference, we encourage you to submit suggestions or ideas for potential agenda topics that your Tribe would like to see addressed at the conference. We will forward suggestions to the selected tribal host. We also encourage you to attend the conference regardless of whether you are interested in hosting the event.

Authority: 7 U.S.C. 136, 15 U.S.C. 2601, 33 U.S.C. 1254, 42 U.S.C. 300f, 33 U.S.C. 1254, 42 U.S.C. 300f, 42 U.S.C. 6981, 42 U.S.C. 7403, 42 U.S.C. 13101 and 13102.

Dated: August 27, 2001.
Stephen D. Luftig,
Acting Principal Deputy Assistant Administrator, Office of Solid Waste and Emergency Response.

[FR Doc. 01-22280 Filed 9-4-01; 8:45 am]

BILLING CODE 6560-50-P